DEPARTMENT OF TRANSPORTATION

Federal Aviation Administration

14 CFR Part 39

[Docket No. 98-NM-11-AD]

RIN 2120-AA64

Airworthiness Directives; Boeing Model 737-100, -200, -200C, -300, -400, and -500 Series Airplanes

AGENCY: Federal Aviation Administration, DOT.

ACTION: Proposed rule; withdrawal.

SUMMARY: This action withdraws a supplemental notice of proposed rulemaking (NPRM) that proposed a new airworthiness directive (AD), applicable to certain Boeing Model 737 series airplanes. That action would have required inspections of certain bonded skin panels to detect delamination of the skin doublers (tear straps) from the skin panels, and follow-on corrective actions if necessary. Since the issuance of the supplemental NPRM, the Federal Aviation Administration (FAA) has issued other rulemaking that requires additional inspections to address the unsafe condition identified in the supplemental NPRM. Accordingly, the supplemental NPRM is withdrawn.

FOR FURTHER INFORMATION CONTACT: Sue Lucier, Aerospace Engineer, Airframe Branch, ANM-120S, FAA, Seattle Aircraft Certification Office, 1601 Lind Avenue, SW., Renton, Washington 98055-4056; telephone (425) 917-6438; fax (425) 917-6590.

SUPPLEMENTARY INFORMATION: A supplemental notice of proposed rulemaking (NPRM) to amend part 39 of the Federal Aviation Regulations (14 CFR part 39) to add a new airworthiness directive (AD), applicable to certain Boeing Model 737 series airplanes, was published in the Federal Register as a second supplemental NPRM on July 2, 2003 (68 FR 39485). The supplemental NPRM would have required inspections of certain bonded skin panels to detect delamination of the skin doublers (tear straps) from the skin panels, and follow-on corrective actions if necessary. That action was prompted by revised service information, which describes revising certain inspection methods, expanding the area of certain inspections, extending the compliance time for certain inspections, and expanding the effectivity of the service information. The proposed actions were intended to prevent skin doublers from delaminating from their skin panels, which could result in fatigue cracks in the skin doublers and skin panels and consequent rapid decompression of the airplane.

Actions That Occurred Since the Supplemental NPRM Was Issued

Since the issuance of that second supplemental NPRM, the FAA has received a new report of significant cracking. As a result of the immediate safety concerns associated with this cracking, we issued AD 2003-14-06, amendment 39-13225 (68 FR 40759, July 9, 2003) to require the appropriate inspections specified in Boeing Service Bulletin 737-53-1179, Revision 2, dated October 25, 2001 (which was referenced in the supplemental NPRM as the appropriate source of service information for accomplishment of the proposed actions). (A correction of that AD was published in the Federal Register on July 21, 2003 (68 FR 42956).) Although we received comments on the second supplemental NPRM, we determined that the immediate safety concerns associated with the new report of cracking required more direct action. Consequently, we issued AD 2003-14-06 to address the identified unsafe condition.

FAA's Conclusions

Because the unsafe condition identified in the supplemental NPRM has already been addressed by AD 2003-14-06, we find it unnecessary to continue with the issuance of this supplemental NPRM. Accordingly, the supplemental NPRM is hereby withdrawn.

Withdrawal of this supplemental NPRM constitutes only such action, and does not preclude the agency from issuing another action in the future, nor does it commit the agency to any course of action in the future.

Regulatory Impact

Since this action only withdraws a supplemental notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the supplemental notice of proposed rulemaking, Docket 98-NM-11-AD, published in the Federal Register on July 2, 2003 (68 FR 39485), is withdrawn.

Issued in Renton, Washington, on April 15, 2004.
Michael J. Kaszycki,
Acting Manager, Transport Airplane Directorate, Aircraft Certification Service.

[FR Doc. 04-9112 Filed 4-21-04; 8:45 am]

BILLING CODE 4910-13-P